Title 3—

The President

Proclamation 8270 of June 12, 2008

Father's Day, 2008

By the President of the United States of America

A Proclamation

On Father's Day, we honor our Nation's fathers for the unconditional love they give to their children and for their selfless dedication to the well-being of their families.

Fathers play a unique and irreplaceable part in the lives of their children and pass along values that help children grow into responsible adults. By providing their sons and daughters with a positive example, fathers help give their children the necessary foundation they need to make wise decisions throughout their lives. Fathers strive to inspire their children to lead lives of integrity, honor, and purpose, and they pray for wisdom and the strength to give their children the love and support they need to achieve their dreams.

All Americans are thankful for the extraordinary efforts of our Nation's fathers, stepfathers, grandfathers, and guardians. Their devotion and encouragement as mentors, providers, and role models help strengthen their families and our country. We are especially grateful for the fathers who serve in our Nation's Armed Forces. These dedicated fathers protect liberty so that all children can have a more promising future. We pray for the safe return of all those serving overseas, and we thank the fathers who support sons and daughters who are defending our freedom around the globe.

NOW, THEREFORE, I, GEORGE W. BUSH, President of the United States of America, in accordance with a joint resolution of the Congress approved April 24, 1972, as amended (36 U.S.C. 109), do hereby proclaim June 15, 2008, as Father's Day. I encourage all Americans to express their appreciation to all fathers for their many contributions to our Nation's children. I direct the appropriate officials of the Government to display the flag of the United States on all Government buildings on this day. I also call upon State and local governments and citizens to observe this day with appropriate programs, ceremonies, and activities.

IN WITNESS WHEREOF, I have hereunto set my hand this twelfth day of June, in the year of our Lord two thousand eight, and of the Independence of the United States of America the two hundred and thirty-second.

[FR Doc. 08-1370

Filed 6-16-08; 10:08 am]

Billing code 3195-W8-P